DEPARTMENT OF HOUSING AND URBAN DEVELOPMENT

[Docket No. FR-5027-N-01]

Notice of Opportunity To Register Early for Electronic Submission of Grant Applications for HUD Funding Opportunities; Early Registration With Grants.gov

AGENCY: Office of Assistant Secretary for Administration, HUD.

ACTION: Notice.

SUMMARY: As part of the ongoing implementation of Electronic Government (E-Government), a key component of the President's Management Agenda, HUD is continuing with its transition to a total electronic grant application system. This system requires applicants to submit applications for Federal grants electronically through Grants.gov, the governmentwide portal for electronic grant applications. To protect the applicant and the applicant's information, and to assure Federal agencies that they are interacting with officials authorized to submit applications on behalf of applicant entities, an applicant must register with Grants.gov to submit an application for funding.

To facilitate the Fiscal Year (FY) 2006 Federal grant application process, this notice encourages prospective applicants for HUD funding to register early for the FY2006 funding cycle. Registering now, in advance of agencies posting their FY2006 grant opportunities, may eliminate many of the registration issues that HUD applicants faced in FY2005 of not meeting registration requirements in time to meet grant application deadlines. Early registration provides HUD, Grants.gov, and the applicant sufficient time to address any questions regarding the registration process, as well as allow applicants to focus on completing application requirements, since registration will be completed.

HUD anticipates that it will post its funding opportunities in early 2006. Prospective applicants for FY2006 HUD grants are encouraged to register at http://www.grants.gov with the publication of this Notice. Although applicants can register at any time before an application is submitted to HUD, the registration process can take approximately 10 days or more. The process relies upon an exchange of data across three different databases and an organization's E-Business Point of Contact (E-Business POC) to complete the authorization process. With busy schedules, an organization seeking to submit a grant application would not want a scenario where a key individual serving as the E-Business POC is not available to complete the process in time to meet an application deadline. Early registration helps applicants avoid possible delays with the timely submission of applications or finding out right before the submission deadline that all the steps in the registration process are not complete.

This notice describes the steps that HUD applicants must take to register successfully at http://www.grants.gov.

DATES: Early registration commences with the issuance of this notice and ends January 31, 2006.

FOR FURTHER INFORMATION CONTACT: The NOFA Information Center, at telephone number 800 HUD-8929. Persons with hearing or speech impairments may access this number via TTY by calling the Federal Information Relay Service at 800 HUD-2209. The NOFA Information Center is open between the hours of 10 a.m. to 6:30 p.m. Eastern Standard Time, Monday through Friday, except on Federal holidays.

I. Grants.gov

Early in his administration, President Bush set expanding electronic government as a goal for the Federal government. Among other things, expanding electronic government would result in the public receiving high-quality services from the Federal government. Expanding electronic government would also improve the Federal government's efficiency in the delivery of its services by reducing the cost of delivering those services.

As part of this initiative, the Federal government launched Grants.gov. Grants.gov is a simple, unified access point for interactions between grant applicants and the Federal agencies that manage grant funds. There are 26 Federal grant-making agencies and over 900 individual grant programs that award over $350 billion in grants each year. Through Grants.gov, the grant community, including state; local and tribal governments; academia and research institutions; public housing agencies; not-for-profit and for-profit organizations; and other organizations need only visit one Web site to access, find, and apply for grant funds available from the Federal government.

In FY2005, a record number of grant applicants registered with Grants.gov resulting in over 15,000 electronic grant applications submitted to Federal agencies. This accomplishment signals the adoption of a major change in the way the Federal government does business, moving from a paper-based grants management process to an electronic process. In FY2006, Federal agency grant programs will continue to move toward implementing a completely electronic application process. As a result, Federal agencies, including HUD, strongly encourage the grant community to prepare as early as possible for the electronic application process using Grants.gov.

II. The Need To Register With Grants.gov

Before an applicant can apply for a grant opportunity, the applicant must first register with Grants.gov to obtain certain identifying information. However, it should be noted that registration is a multi-step process and all of the steps do not occur directly at Grants.gov. Registration protects both the applicant and the applicable Federal agencies. Registration confirms that the applicant has designated a certain individual or entity to submit an application on behalf of the applicant and assures the Federal agency that it is interacting with the designated representative of the applicant.

III. What Is Involved in Registration?

• Use of DUNS Numbers. In 2004, the Federal government adopted a policy that applicants must obtain a Data Universal Numbering System (DUNS) number in order to receive funding. DUNS numbers are issued by Dun and Bradstreet, a company that provides business information credit, marketing and purchasing decisions for more than 70 million businesses worldwide. Its data universal numbering system issues unique 9-digit numbers that are used by businesses and the Federal government to track funding and business related information and relationships. Large organizations can set up what is known as DUNS + 4 to track the flow of funding and disbursements within the parent organizations and any number of sub-agencies or departments within the organization. States and universities frequently identify their sub-organizations through the use of DUNS + 4 numbering.

• Registration in the Central Contractor Registration (CCR). The CCR is the primary vendor database for the Federal government. The CCR was established to primarily assist Federal government agency acquisitions and procurements. The CCR collects, validates, stores and disseminates data in support of agency acquisitions. Registration in CCR was extended from the procurement and acquisition area to grants. For grants, CCR stores an applicant's information, allowing Grants.gov to verify an applicant's identity and identify key business contacts for the organization. When an applicant registers with CCR it will be required to designate an E-Business Point of Contact (EPOC). The E-Business POC is the sole authority within an organization who can approve or revoke approval of an individual to submit grant applications on behalf of their organization via Grants.gov.

• Registration with a Credential Provider. The Credential Provider is the organization that validates the electronic identity of an individual through electronic credentials, personal identification numbers (PINs), passwords or other identifying information for Grants.gov. In order to safeguard information, Grants.gov uses E-Authentication, the Federal program that ensures secure transactions. E-Authentication defines the level of trust or trustworthiness of the parties involved in a transaction through the use of credential providers. This is the process of determining, with a high degree of certainty, that someone is really who they claim to be. When an applicant registers with a Credential Provider they receive a USER ID and Password.

• Authorized Organization Representative (AOR) Registration. An AOR is the person(s) named by an agency to submit an application for funding consideration on behalf of the agency. By authorizing the person to submit on behalf of the organization, the organization is stating that the AOR is authorized to make a legally binding commitment on behalf of the organization. Designated AORs must register with the Credential Provider to obtain a USER ID and Password and register in Grants.gov to be identified as their organizations AOR. The organization's E-Business POC will be sent an email from Grants.gov, which tells the EPOC that someone from the E-Business POC's organization has registered with Grants.gov as an AOR. The E-Business POC must go into Grants.gov and approve the AOR status to allow the nominated person to submit an application via Grants.gov. When an AOR has been designated and approved to submit the application the registration is completed for that person to submit an application on behalf of the applicant organization.

IV. Time Allotted for Registration

Generally, registration with Grants.gov, which must be completed prior to any grant application submission, takes approximately 10 business days. The length of time depends on when the steps in the registration process are completed; the volume of traffic on the various sites involved in the registration process; and the ability of the applicant to determine who will be the person responsible for submitting the grant application, and having that person authorized through the registration process as the AOR. Registering early should allow the applicant sufficient time to focus on these items, and will help an applicant become familiar with the requirements for electronic application submission through Grants.gov.

V. The Registration Process

Many Federal grant-making agencies provide funding to organizational entities and some agencies are permitted to fund individuals; however, HUD only provides funding to organizations. This notice, therefore, is directed to HUD applicants, that are organizational entities.

Appendix A, which follows, provides a step-by-step guide to the registration process before an applicant may submit a grant application electronically. Appendix B lists resources that Grants.gov makes available to prospective applicants to help them through the process. All organizational entities must complete steps 1 to 5 to be fully registered with Grants.gov.

Dated: November 22, 2005.
Keith A. Nelson,
Assistant Secretary for Administration.

BILLING CODE4210-01-P

[FR Doc. 05-23761 Filed 12-8-05; 8:45 am]

BILLING CODE 4210-01-C